NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at title 45 part 671 of the Code of Federal Regulations. This is the required notice of permit applications received.

DATES: Interested parties are invited to submit written data, comments, or views with respect to this permit application by October 28, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2016-014

1. Applicant: Dwayne Stevens, Marine Operations Manager, Lindblad Expeditions, 1415 Western Ave. Suite 700, Seattle, WA 98101.

Activity for Which Permit Is Requested

Waste Permit; The applicant wishes to fly small, battery operated, remotely controlled Unmanned Aerial Systems (UASs) equipped with cameras to take scenic photos and film of the Antarctic. The UASs would not be flown over concentrations of birds or mammals or over Antarctic Specially Protected Areas or Historic Sites and Monuments. The proposed pilot has paragliding, ultralight aircraft and helicopter pilot experience; over 15 years experience with remote controlled aircraft; and over 2 years experience and over 500 safe flights with the specific proposed UASs. The UASs would be equipped with flotation in the case of accidental landing, would only be flown over water after launching from an inflatable Zodiac boat, would only be flown when the wind is less than 25 knots, and visual contact would be maintained with the vehicle at all times. The applicant is seeking a Waste Permit to cover any accidental releases that may result from flying a UAS.

Location

Antarctic Peninsula region and South Georgia.

Dates

November 1, 2015 to March 31, 2017.

Nadene G. Kennedy,
Polar Coordination Specialist, Division of Polar Programs.

[FR Doc. 2015-24523 Filed 9-25-15; 8:45 am]

BILLING CODE 7555-01-P